DEPARTMENT OF AGRICULTURE

Forest Service

Black Hills National Forest Advisory Board

AGENCY: Forest Service, Agriculture (USDA).

ACTION: Notice of meeting.

SUMMARY: The Black Hills National Forest Advisory Board will hold a federal advisory committee meeting according to the details shown below. The committee is authorized under the Forest and Rangeland Renewable Resources Planning Act of 1974, the National Forest Management Act of 1976, the Federal Public Lands Recreation Enhancement Act, and operates in compliance with the Federal Advisory Committee Act (FACA). The advisory board information and meeting details can be found at the following website: https://www.fs.usda.gov/main/blackhills/workingtogether/advisorycommittees.

DATES:

Meeting: An in-person meeting will be held on May 17, 2023, 1 p.m.-4:30 p.m. Mountain Daylight Time.

All RAC meetings are subject to cancellation. For status of the meeting prior to attendance, please contact the person listed under For Further Information Contact.

Written Comments: Written public comments will be accepted by 11:59 p.m. (MDT) on May 12, 2023. Comments submitted after this date will be provided to the Agency, but the Committee may not have adequate time to consider those comments prior to the meeting. Written comments may be submitted as described under this section. Anyone who would like to bring related matters to the attention of the committee may file written statements with the committee staff before or up to 14 days after the meeting. Written comments must be sent to scott.j.jacobson@usda.gov or via mail (i.e., postmarked) to Scott Jacobson, 8221 Mount Rushmore Road, Rapid City, South Dakota 57702. The Forest Service strongly prefers comments be submitted electronically.

Oral Statements: Each commenter wishing to address the Committee must pre-register by 11:59 p.m. (MDT) on May 12, 2023. Individuals may pre-register by sending an email to scott.j.jacobson@usda.gov or via mail (i.e., postmarked) to Scott Jacobson, 8221 Mount Rushmore Road, Rapid City, South Dakota 57702.

All comments, including names and addresses when provided, are placed in the record and are available for public inspection and copying. The public may inspect comments received upon request.

ADDRESSES: Meeting Location: The meeting is open to the public and will be held in person. Members of the public may participate in the meeting at the U.S. Forest Service, Mystic Ranger District Office, 8221 Mount Rushmore Road, Rapid City, South Dakota 57702.

FOR FURTHER INFORMATION CONTACT: Bryan Karchut, Designated Federal Officer (DFO), by phone at 605-673-9201 or email at bryan.karchut@usda.gov or Scott Jacobson, Committee Coordinator, at 605-440-1409 or email at scott.j.jacobson@usda.gov.

SUPPLEMENTARY INFORMATION: Background: The purpose of the committee is to provide advice and recommendations on a broad range of forest issues such as forest plan revisions or amendments, forest health including fire, insect and disease, travel management, forest monitoring and evaluation, recreation fees, and site-specific projects having forest-wide implications.

Meeting Agenda

The purpose of the meeting is to discuss:

1. Black Elk Wilderness Area;

2. Fire Season 2023 Update;

3. Long Eared Bat Reclassification; and

4. Forest Plan Revision.

Written Comments and Oral Statements: Written comments and oral statements may be submitted as described under the Dates section. All comments, including names and addresses when provided, are placed in the record and are available for public inspection and copying. The public may inspect comments received upon request. Anyone who would like to bring related matters to the attention of the committee may file written statements with the committee staff before or after the meeting. All written public comments will be compiled into a binder and available for review at the meeting. Duplicate comments from multiple individuals will appear as one comment, with a notation that multiple copies of the comment were received. Please visit https://www.fs.usda.gov/main/blackhills/workingtogether/advisorycommittees to learn more about the agenda or reports resulting from this meeting.

Register for the Meeting: The public is asked to pre-register for the meeting at least 10 business days prior to the meeting. Your pre-registration must state: the names of each person in your group; organization or interest represented; the number of people planning to give oral comments, if any; and whether anyone in your group requires special accommodations. Submit registrations to Bryan Karchut, Designated Federal Officer (DFO), by phone at 605-673-9201or email at bryan.karchut@usda.gov or Scott Jacobson, Committee Coordinator, at 605-440-1409 or email at scott.j.jacobson@usda.gov. Walk-in registrations are also accepted. Members of the public who request to give oral comments to the Committee must arrive by 12:45 p.m. MDT on May 14, 2023, and will be given their allotted time limit and turn at the check-in table.

Meeting Accommodations: If you are a person requiring reasonable accommodation, please make requests in advance for sign language interpretation, assistive listening devices, or other reasonable accommodation to the person listed under the For Further Information Contact section. Determinations for reasonable accommodation will be made on a case-by-case basis. Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Committee. To ensure that the recommendations of the Committee have taken into account the needs of the diverse groups served by USDA, membership shall include to the extent possible, individuals with demonstrated ability to represent minorities, women and persons with disabilities. USDA is an equal opportunity provider, employer, and lender.

Dated: April 7, 2023.
Cikena Reid,
USDA Committee Management Officer.

[FR Doc. 2023-07658 Filed 4-11-23; 8:45 am]

BILLING CODE 3411-15-P